DEPARTMENT OF TRANSPORTATION

Federal Aviation Administration

14 CFR Part 39

[Docket No. FAA-2011-1408; Directorate Identifier 2008-SW-10-AD]

RIN 2120-AA64

Airworthiness Directives; Eurocopter France (Eurocopter) Helicopters

AGENCY: Federal Aviation Administration (FAA), DOT.

ACTION: Notice of proposed rulemaking (NPRM).

SUMMARY: We propose to adopt a new airworthiness directive (AD) for the Eurocopter Model SA330F, G, J and AS332C, L, L1, and L2 helicopters. This proposed AD is prompted by two reports of jamming of one of the fuel shut-off control levers, which originated from solidified grease in the tangential gearbox (gearbox). Corrosion was also found in a gearbox. The proposed actions are intended to prevent jamming of a fuel shut-off control lever preventing the shut off of engine fuel and preventing the parallel-mounted electrical micro switches, normally activated by shutting off both of the fuel shut-off control levers, from switching off the electrical power system during an emergency shut down.

DATES: We must receive comments on this proposed AD by February 27, 2012.

ADDRESSES: You may send comments by any of the following methods:

• Federal eRulemaking Docket: Go to http://www.regulations.gov. Follow the online instructions for sending your comments electronically.

• Fax: (202) 493-2251.

• Mail: Send comments to the U.S. Department of Transportation, Docket Operations, M-30, West Building Ground Floor, Room W12-140, 1200 New Jersey Avenue SE., Washington, DC 20590.

• Hand Delivery: Deliver to the “Mail” address between 9 a.m. and 5 p.m., Monday through Friday, except Federal holidays.

Examining the Docket: You may examine the AD docket on the Internet at http://www.regulations.gov or in person at the Docket Operations Office between 9 a.m. and 5 p.m., Monday through Friday, except Federal holidays. The AD docket contains this proposed AD, the economic evaluation, any comments received and other information. The street address for the Docket Operations Office (telephone (800) 647-5527) is in the ADDRESSES section. Comments will be available in the AD docket shortly after receipt.

For service information identified in this proposed AD, contact American Eurocopter Corporation, 2701 Forum Drive, Grand Prairie, Texas 75053-4005; telephone (972) 641-3460; fax (972) 641-3527; or at http://www.eurocopter.com/techpub. You may review copies of the referenced service information at the FAA, Office of the Regional Counsel, Southwest Region, 2601 Meacham Blvd., Room 663, Fort Worth, Texas 76137.

FOR FURTHER INFORMATION CONTACT: Eric Haight, Aviation Safety Engineer, Regulations and Policy Group, Rotorcraft Directorate, FAA, 2601 Meacham Blvd., Fort Worth, Texas 76137; telephone (817) 222-5110; email eric.haight@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued Emergency AD No. 2007-0082-E, dated March 27, 2007, to correct an unsafe condition for the Eurocopter Model SA330F, G, J and AS332C, C1, L, L1, and L2 helicopters. EASA advises that the emergency AD was issued following two reports of jamming of one of the fuel shut-off control levers discovered during maintenance. In both cases, this jamming originates from solidified grease in the gearboxes. They also found corrosion in a gearbox. Jamming of a fuel shut-off control lever constitutes an unsafe condition because it prevents the shut off of engine fuel and prevents the parallel-mounted electrical micro switches, normally activated by shutting off both of the fuel shut-off control levers, from switching off the electrical power system during an emergency shut down.

FAA's Determination

We are proposing this AD because we evaluated all known relevant information and determined that the unsafe condition exists and is likely to exist or develop on other helicopters of these same type designs.

Related Service Information

Eurocopter has issued an Alert Service Bulletin (ASB), Revision 1, dated March 22, 2007, with 3 different numbers (Nos. 76.00.04, 76.00.03, and 76.03). No. 76.03 applies to the United States type-certificated Model SA330F, G, and J and also applies to the non-type-certificated, military Model 330 helicopters. No. 76.00.04 applies to the United States type certificated Model AS332C, C1, L, L1, and L2 helicopters and also applies to the non type-certificated AS332C1 and military Model 332 helicopters. No. 76.00.03 applies to the non type-certificated military Model 532 helicopters. EASA classified this service information as mandatory and issued Emergency AD No. 2007-0082-E, dated March 27, 2007, to correct the same unsafe condition as identified in the service information.

Proposed AD Requirements

The proposed AD would require within 50 hours time-in-service (TIS), unless already done, cleaning, inspecting and lubricating each gearbox, and adjusting, as necessary, the fuel shut-off control travel by following the Accomplishment Instructions, paragraph 2.B.2. (reference Figures 3 through 7), of Eurocopter ASB No. 76.03, Revision 1, dated March 22, 2007, for the Model SA330F, G, and J, or ASB No. 76.00.04, Revision 1, dated March 22, 2007, for the Model AS332C, L, L1, and L2 helicopters.

Differences Between This Proposed AD and the EASA AD

• We use the word “inspect” to describe the actions required by a mechanic versus the word “check.”

• We refer to the compliance time as “hours TIS” rather than “flying hours.”

• We use a different compliance time for inspecting and lubricating the gearboxes.

• We are not including the military model helicopters or the Model AS332C1 in the applicability because they are not type certificated in the U.S.

• We are not requiring measuring the operating loads of the fuel shut-off controls per paragraph 1.1 of the MCAI AD (paragraph 2.B.1 of the ASB).

Costs of Compliance

We estimate that this proposed AD would affect about 29 helicopters of U.S. registry. We also estimate that operators may incur the following costs to comply with this AD: $7,395 for the fleet assuming 3 work-hours to lubricate each gearbox at an average labor rate of $85 per work-hour.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2011-1408; Directorate Identifier 2008-SW-10-AD.

(a) Applicability

This AD applies to Model SA330F, G, J and AS332C, L, L1, and L2 helicopters, certificated in any category.

(b) Unsafe Condition

This AD defines the unsafe condition as jamming of one of the fuel shut-off control levers due to solidified grease in a tangential gearbox (gearbox). This condition could prevent the shut off of engine fuel and prevent the parallel-mounted electrical micro switches, normally activated by shutting off both of the fuel shut-off control levers, from switching off the electrical power system during an emergency shut down.

(c) Compliance

You are responsible for performing each action required by this AD within the specified compliance time unless it has already been accomplished prior to that time.

(d) Actions

Within 50 hours time-in-service, clean, inspect, and lubricate each gearbox and adjust, as necessary, the fuel shut-off control travel by following the Accomplishment Instructions, paragraph 2.B.2. (reference Figures 3 through 7), of Eurocopter Alert Service Bulletin (ASB) No. 76.03, Revision 1, dated March 22, 2007, for the Model SA330F, G, and J, or ASB No. 76.00.04, Revision 1, dated March 22, 2007, for the Model AS332C, L, L1, and L2 helicopters.

(e) Alternative Methods of Compliance (AMOC)

(1) The Manager, Safety Management Group, Rotorcraft Directorate, FAA, may approve AMOCs for this AD. Send your proposal to: Eric Haight, Aviation Safety Engineer, Regulations and Policy Group, Rotorcraft Directorate, FAA, 2601 Meacham Blvd., Fort Worth, Texas 76137; telephone (817) 222-5110; email eric.haight@faa.gov.

(2) For operations conducted under a Part 119 operating certificate or under Part 91, Subpart K, we suggest that you notify your principal inspector or, lacking a principal inspector, the manager of the local flight standards district office or certificate holding district office before operating any aircraft complying with this AD through an AMOC.

(f) Additional Information

The subject of this AD is addressed in European Aviation Safety Agency (EASA) AD No. 2007-0082-E, dated March 27, 2007.

(g) Subject

Air Transport Association of America (ATA) Code 7600, Engine Control.

Issued in Fort Worth, Texas, on December 16, 2011.
Jorge Castillo,
Acting Manager, Rotorcraft Directorate, Aircraft Certification Service.

[FR Doc. 2011-33248 Filed 12-27-11; 8:45 am]

BILLING CODE 4910-13-P